ENVIRONMENTAL PROTECTION AGENCY

[FRL-10770-01-R6]

Notice of Proposed Administrative Settlement Agreement and Order on Consent for Cost Reimbursement

AGENCY: Environmental Protection Agency (EPA).

ACTION: Notice of proposed settlement; request for public comment.

SUMMARY: In accordance with the Comprehensive Environmental Response, Compensation, and Liability Act (“CERCLA”), notice is hereby given that a proposed CERCLA Section 122(h)(1) Settlement Agreement (“Proposed Agreement”) associated with the ITC Tank Fire Superfund Site in Deer Park, Harris County, Texas (“Site”) was executed by the Environmental Protection Agency (“EPA”) and is now subject to public comment, after which EPA may modify or withdraw its consent if comments received disclose facts or considerations that indicate that the Proposed Agreement is inappropriate, improper, or inadequate. The Proposed Agreement would resolve potential EPA claims under Section 107(a) of CERCLA, against Intercontinental Terminals Company LLC (“Settling Party”) for EPA response costs at the Deer Park Superfund Site in Texas. The settlement is $5.25 million and was based on negotiations which concluded with the settling party agreeing to make partial payment for EPA response costs.

For thirty (30) days following the date of publication of this notice, EPA will receive electronic comments relating to the Proposed Agreement. EPA's response to any comments received will be available for public inspection by request. Please see the ADDRESSES section of this notice for special instructions in effect due to impacts related to the COVID-19 pandemic.

DATES: Comments must be received on or before May 30, 2023.

ADDRESSES: As a result of impacts related to the COVID-19 pandemic, requests for documents and submission of comments must be via electronic mail except as provided below. The Proposed Agreement and additional background information relating to the Proposed Agreement are available for public inspection upon request by contacting EPA Assistant Regional Counsel Edwin Quinones at quinones.edwin@epa.gov. Comments must be submitted via electronic mail to this same email address and should reference the “ITC Tank Fire” Superfund Site, Proposed Settlement Agreement” and “EPA CERCLA Docket No. 06-03-23”. Persons without access to electronic mail may call Mr. Quinones at (214) 665-8035 to make alternative arrangements.

FOR FURTHER INFORMATION CONTACT: Edwin Quinones at EPA by phone (214) 665-8035 or email at: quinones.edwin@epa.gov.

Earthea Nance,
Regional Administrator, Region 6.

[FR Doc. 2023-09046 Filed 4-27-23; 8:45 am]

BILLING CODE 6560-50-P